DEPARTMENT OF HEALTH AND HUMAN SERVICES

National Institutes of Health

Clinical Center; Amended Notice of Meeting

Notice is hereby given of a change in the meeting of the NIH Advisory Board for Clinical Research, March 28, 2005, 10 a.m. to March 28, 2005, 2 p.m., National Institutes of Health, Building 10, 10 Center Drive, Medical Board Room 4-2551, Bethesda, MD, 20892 which was published in the Federal Register on March 11, 2005, FR 70 12223.

The open session will occur from 10 a.m.-1 p.m. The closed session will begin approximately at 1 p.m. and run until 2 p.m. The meeting will be held in the Clinical Center, Bldg. 10, Rm. 4-2551, CRC Medical Board Room. The meeting is partially closed to the public.

Dated: March 17, 2005.
LaVerne Y. Stringfield,
Director, Office of Federal Advisory Committee Policy.

[FR Doc. 05-5872 Filed 3-23-05; 8:45 am]

BILLING CODE 4140-01-M